NUCLEAR REGULATORY COMMISSION

[NRC-2017-0130]

Qualification of Safety-Related Vented Lead-Acid Storage Batteries for Nuclear Power Plants

AGENCY: Nuclear Regulatory Commission.

ACTION: Draft regulatory guide; request for comment.

SUMMARY: The U.S. Nuclear Regulatory Commission (NRC) is issuing for public comment draft regulatory guide (DG), DG-1338, “Qualification of Safety-Related Vented Lead-Acid Storage Batteries for Nuclear Power Plants.” DG-1338 is proposed revision 1 of regulatory guide (RG) 1.158, “Qualification of Safety-Related Lead Storage Batteries for Nuclear Power Plants” dated February 1989. DG-1338 endorses (with clarifying regulatory positions) the Institute of Electrical and Electronics Engineers (IEEE) Standard (Std.) 535-2013, “IEEE Standard for Qualification of Class 1E Vented Lead Acid Storage Batteries for Nuclear Power Generating Stations.” IEEE 535-2013 contains procedures for qualifying batteries with duty cycles of less than 8 hours and batteries with duty cycles longer than 8 hours.

DATES: Submit comments by July 31, 2017. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Web site: Go to http://www.regulations.gov and search for Docket ID: NRC-2017-0130. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: TWFN-08C22, U.S. Nuclear Regulatory Commission, Washington, DC 20555-0001.

For additional direction on obtaining information and submitting comments, see “Obtaining Information and Submitting Comments” in the SUPPLEMENTARY INFORMATION section of this document.

FOR FURTHER INFORMATION CONTACT: Lilliana Ramadan, telephone: 301-415-2463, email: Lilliana.Ramadan@nrc.Gov, or Mark Orr, telephone: 301-415-6003, email: Mark.Orr@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2017-0130 when contacting the NRC about the availability of information regarding this action. You may obtain publically-available information related to this action, by any of the following methods:

• Federal Rulemaking Web site: Go to http://www.regulations.gov and search for Docket ID NRC-2017-0130.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is electronically available in ADAMS under Accession No. ML16337A005. The regulatory analysis for this DG is available in ADAMS under Accession No. ML16340A112.

• NRC's PDR: You may examine and purchase copies of public documents at the NRC's PDR, Room O1-F21, One White Flint North, 11555 Rockville Pike, Rockville, Maryland 20852.

B. Submitting Comments

Please include Docket ID NRC-2017-0130 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Qualification of Safety-Related Vented Lead-Acid Storage Batteries for Nuclear Power Plants,” is proposed revision 1 to RG 1.158. The proposed revised RG is temporarily identified by its task number, DG-1338. The proposed revised RG provides more current guidance on the methods and type-test procedures for two different battery applications. One application is for batteries with duty cycles equal to or less than 8 hours and the other application is for batteries with duty cycles longer than 8 hours. The 2013 revision of IEEE Std. 535 provides a qualification process for both applications to ensure battery performance and provides a normative annex with example testing regimens. The NRC staff determined that RG 1.158 should be revised to endorse the 2013 version of IEEE Std. 535 to support new reactor license applications, design certifications, and applications for license amendments.

Copies of IEEE documents may be purchased from the Institute of Electrical and Electronics Engineers Service Center, 445 Hoes Lane, PO Box 1331, Piscataway, NJ 08855 or through the IEEE's public Web site at http://www.ieee.org/publications_standards/index.html.

III. Backfitting and Issue Finality

Draft regulatory guide DG-1338, if finalized as revision 1 to RG 1.158, would endorse, with certain clarifications, the 2013 revision of IEEE Std. 535 which refines the methods and type-test procedures for two different battery applications. One application is for batteries with duty cycles equal to or less than 8 hours and the other application is for batteries with duty cycles longer than 8 hours. The 2013 revision of IEEE Std. 535 demonstrates and outlines the qualifying process for both applications to ensure battery performance. It also provides a comprehensive document for qualifying batteries with additional normative annexes. The draft regulatory guide, if finalized, would not constitute backfitting as defined in 10 CFR 50.109 (the Backfit Rule) and is not otherwise inconsistent with the issue finality provisions in 10 CFR part 52, “Licenses, Certifications and Approvals for Nuclear Power Plants.” The subject of this draft regulatory guide, as described above, is an NRC-defined process which does not fall within the purview of subjects covered by either the Backfit Rule or the issue finality provision in 10 CFR part 52. Issuance of the draft regulatory guide, in final form, would not constitute backfitting, and no further consideration of backfitting is required in order to issue the draft or final regulatory guide in final form.

Dated at Rockville, Maryland, this 25th day of May 2017.
For the Nuclear Regulatory Commission.
Thomas H. Boyce,
Chief, Regulatory Guidance and Generic Issues Branch, Division of Engineering, Office of Nuclear Regulatory Research.

[FR Doc. 2017-11223 Filed 5-30-17; 8:45 am]

BILLING CODE 7590-01-P